DEPARTMENT OF THE TREASURY

Agency Information Collection Activities; Submission for OMB Review; Comment Request; Multiple IRS Information Collection Requests

AGENCY: Departmental Offices, U.S. Department of the Treasury.

ACTION: Notice.

SUMMARY: The Department of the Treasury will submit the following information collection request(s) to the Office of Management and Budget (OMB) for review and clearance in accordance with the Paperwork Reduction Act of 1995, on or after the date of publication of this notice. The public is invited to submit comments on the collection(s) listed below.

DATES: Comments should be received on or before July 31, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Internal Revenue Service (IRS)

Title: Employer's Annual Tax Return for Agricultural Employees.

OMB Control Number: 1545-0035.

Type of Review: Revision of a currently approved collection.

Abstract: Sections 3101(a) and (b), and 3111(a) and (b), 3402(p), and 6011(a) and (b) of the Internal Revenue Code and sections 31.6011(a)-1 and 31.6011(a)-4 of the Employment Tax Regulations require agricultural employers to report (a) the employees' and employers' FICA taxes on wages and (b) the amounts withheld for income tax. Form 943 is used for this purpose. Sections 3101(a) and (b), 3111(a) and (b), and 6011(a) and (b) of the Internal Revenue Code and section 31.6011(a)-1 of the Employment Tax Regulations require agricultural employers in Puerto Rico to report the employees' and employers' FICA taxes on wages. Form 943-PR is used for this purpose. Section 6302(c) of the Internal Revenue Code and section 31.6302-l(g) of the Employment Tax Regulations require agricultural employers who are semiweekly depositors to deposit the taxes accumulated during the semiweekly period within 3 banking days of the end of the period. Section 31.6302-l(c)(3) of the Employment Tax Regulations requires that agricultural employers, who on any day within a deposit period accumulate $100,000 or more of employment taxes, must deposit them by the close of the next banking day. Forms 943-A and 943A-PR are optional forms that may be used by agricultural employers to show their tax liabilities for the semiweekly periods and $100,000 one-day rule. Form 943-X is used to correct errors made on Form 943, Employer's Annual Federal Tax Return for Agricultural Employees, for one year only. Form 943-X-PR, for use in Puerto Rico, is used to correct errors made on Form 943, Employer's Annual Federal Tax Return for Agricultural Employees, for one year only. (Use este formulario para corregir errores hechos en el Formulario 943-PR, Planilla para la Declaración Anual de la Contribución Federal del Patrono de Empleados Agrícolas, para un solo año.) Form 943 Sch R allows (1) an agent appointed by an employer or payer or (2) a customer who enters into a contract that meets the requirements under 7705(e)(2) or (3) a client who enters into a service agreement described under Regulations section 31.3504-2(b)(2) with a Certified Professional Employer Organization, to allocate information reported on Form 943 to each client.

Form: 943,943-PR, 943-A, 943A-PR, 943-X, 943X-PR, 943-R.

Affected Public: Businesses or other for-profits, Farms.

Estimated Total Annual Burden Hours: 10,883,138.

Title: Form 1023—Application for Recognition of Exemption Under Section 501(c)(3) of the Internal Revenue Code and Form 1023-EZ, Streamlined.

OMB Control Number: 1545-0056.

Type of Review: Revision of a currently approved collection.

Abstract: Form 1023 is filed by applicants seeking Federal income tax exemption as organization described in section 501(c)(3). IRS uses the information to determine if the applicant is exempt and whether the applicant is a private foundation. Form 1023-EZ is a simplified version of Form 1023, to be filed by organizations who meet certain criteria.

Form: 1023, 1023-EZ.

Affected Public: Not-for-profit institutions.

Estimated Total Annual Burden Hours: 4,714,236.

Title: Foreign Tax Credit (Individual, Estate, or Trust).

OMB Control Number: 1545-0121.

Type of Review: Extension without change of a currently approved collection.

Abstract: Form 1116 is used by individuals (including nonresident aliens) estates or trusts that paid foreign income taxes on U.S. taxable income to compute the foreign tax credit. This information is used by the IRS to verify the foreign tax credit.

Form: 116.

Affected Public: Individuals or Households.

Estimated Total Annual Burden Hours: 25,066,693.

Title: Application for Approval of Prototype Simplified Employee Pension (SEP) or Savings Incentive Match Plan for Employees of Small Employers (SIMPLE IRA Plan).

OMB Control Number: 1545-0199.

Type of Review: Extension without change of a currently approved collection.

Abstract: This form is used by banks, credit unions, insurance companies, and trade or professional associations to apply for approval of a Simplified Employee Pension Plan or Savings Incentive Match Plan to be used by more than one employer. The data collected is used to determine if the prototype plan submitted is an approved plan.

Form: 5306A.

Affected Public: Businesses or other for-profits.

Estimated Total Annual Burden Hours: 407.

Title: Safe-harbor lease information returns.

OMB Control Number: 1545-0923.

Type of Review: Extension without change of a currently approved collection.

Abstract: These regulations provide guidance to persons executing lease agreements involving tax-exempt entities under section 168(h) of the Internal Revenue Code. The regulations are necessary to implement congressionally enacted legislation and elections for certain previously tax-exempt organizations and certain tax-exempt controlled entities.

Form: None.

Affected Public: Not-for-profit institutions.

Estimated Total Annual Burden Hours: 3,000.

Title: Estimated Income Tax for Estates and Trusts.

OMB Control Number: 1545-0971.

Type of Review: Extension without change of a currently approved collection.

Abstract: Internal Revenue Code section 6654(1) imposes a penalty on trusts, and in certain circumstances, a decedent's estate, for underpayment of estimated tax. Form 1041-ES is used by the fiduciary to make the estimated tax payments. For first-time filers, the form is available in an Over The Counter (OTC) version at IRS offices. For previous filers, the form is sent to them by the IRS with preprinted vouchers in the Optical Character Resolution (OCR) version.

Form: 1041-ES.

Affected Public: Businesses or other for-profits.

Estimated Total Annual Burden Hours: 3,161,236.

Title: Form 1099-S—Proceeds From Real Estate Transactions.

OMB Control Number: 1545-0997.

Type of Review: Revision of a currently approved collection.

Abstract: Form 1099-S is used by the real estate reporting person to report proceeds from a real estate transaction to the IRS.

Form: 1099-S.

Affected Public: Businesses or other for-profits.

Estimated Total Annual Burden Hours: 411,744.

Title: Form 8655-Reporting Agent Authorization; Revenue Procedure 2012-32.

OMB Control Number: 1545-1058.

Type of Review: Extension without change of a currently approved collection.

Abstract: Form 8655: Allows a taxpayer to designate a reporting agent to file certain employment tax returns electronically, and to submit Federal tax deposits. This form allows IRS to disclose tax account information and to provide duplicate copies of taxpayer correspondence to authorized agents. Reporting agents are persons or organizations preparing and filing electronically the federal tax returns and/or submitting federal tax deposits. Revenue Procedure 2012-32. This revenue procedure provides the requirements for completing and submitting Form 8655, Reporting Agent Authorization (Authorization). An Authorization allows a taxpayer to designate a Reporting Agent to perform the following acts on behalf of a taxpayer.

Form: 8655.

Affected Public: Businesses or other for-profits.

Estimated Total Annual Burden Hours: 819,050.

Title: Enhanced Oil Recovery Credit.

OMB Control Number: 1545-1292.

Type of Review: Revision of a currently approved collection.

Abstract: This regulation provides guidance concerning the costs subject to the enhanced oil recovery credit, the circumstances under which the credit is available, and procedures for certifying to the Internal Revenue Service that a project meets the requirements of section 43(c) of the Internal Revenue Code.

Form: 8830.

Affected Public: Businesses or other for-profits.

Estimated Total Annual Burden Hours: 12,527.

Title: CO-88-90 (TD 8530) Limitation on Net Operating Loss Carryforwards and Certain Built-in Losses Following Ownership Change; Special Rule for Value of a Loss Corporation Under the Jurisdiction.

OMB Control Number: 1545-1324.

Type of Review: Revision of a currently approved collection.

Abstract: This information serves as evidence of an election to apply section 382(1)(6) in lieu of section 382(1)(5) and an election to apply the provisions of the regulations. It is required by the Internal Revenue Service to assure that the proper amount of carryover attributes are used by a loss corporation following specified types of ownership changes.

Form: None.

Affected Public: Businesses or other for-profits.

Estimated Total Annual Burden Hours: 63.

Title: TD 8566 (Final)—General Asset Accounts Under the Accelerated Cost Recovery System.

OMB Control Number: 1545-1331.

Type of Review: Extension without change of a currently approved collection.

Abstract: The regulations describe the time and manner of making the election described in IRC Section 168(i)(4). Basic information regarding this election is necessary to monitor compliance with the rules in the IRC Section 168.

Form: None.

Affected Public: Businesses or other for-profits.

Estimated Total Annual Burden Hours: 250.

Title: Cognitive and Psychological Research.

OMB Control Number: 1545-1349.

Type of Review: Revision of a currently approved collection.

Abstract: The proposed research will improve the quality of the data collection by examining the psychological and cognitive aspects of methods and procedures such as: interviewing processes, forms redesign, survey and tax collection technology and operating procedures (internal and external in nature).

Form: None.

Affected Public: Individuals and Businesses, other for-profit organizations.

Estimated Total Annual Burden Hours: 18,000.

Title: Form 8866-Interest Computation Under the Look-Back Method for Property Depreciated Under the Income Forecast Method.

OMB Control Number: 1545-1622.

Type of Review: Extension without change of a currently approved collection.

Abstract: The Small Business Job Protection Act of 1996 requires taxpayers whom claim depreciation deductions on property placed in service after September 13, 1995, under the income forecast method to pay (allow taxpayers to receive) interest based on the recalculation of depreciation. Form 8866 must be used in order to compute and report interest due or to be refunded under IRC 167 (g)(2). The IRS uses Form 8866 to determine if the interest has been figured correctly.

Form: 8866.

Affected Public: Individuals or households.

Estimated Total Annual Burden Hours: 45,738.

Title: Extraterritorial Income Exclusion Elections.

OMB Control Number: 1545-1731.

Type of Review: Extension without change of a currently approved collection.

Abstract: A taxpayer that wants to revoke its election to be treated as a domestic corporation for all purposes of the Internal Revenue Code (Code) must file a revocation statement with the Internal Revenue Service (IRS). This revenue procedure provides guidance for implementing the elections (and revocation of such elections) established under the “FSC Repeal and Extraterritorial Income Exclusion Act of 2000.”

Form: None.

Affected Public: Businesses or other for-profits.

Estimated Total Annual Burden Hours: 19.

Title: Summary of Archer MSAs.

OMB Control Number: 1545-1743.

Type of Review: Extension without change of a currently approved collection.

Abstract: This form is used by the IRS to determine whether numerical limits set forth in section 220(j)(1) have been exceeded.

Form: 8851.

Affected Public: Businesses or other for-profits.

Estimated Total Annual Burden Hours: 1,540,000.

Title: Revenue Procedure 2004-29—Statistical Sampling in Sec. 274 Context.

OMB Control Number: 1545-1847.

Type of Review: Extension without change of a currently approved collection.

Abstract: For taxpayers desiring to establish for purposes of Sec. 274(n) (2), (A), (C), (D), or (E) that a portion of the total amount of substantiated expenses incurred for meals and entertainment is excepted from the 50% limitation of Sec. 274(n), the revenue procedure requires that taxpayers maintain adequate documentation to support the statistical application, sample unit findings, and all aspects of the sample plan.

Form: None.

Affected Public: Businesses or other for-profits.

Estimated Total Annual Burden Hours: 3,200.

Title: Revenue Procedure 2010-52, Extension of the Amortization Period for Plan Sponsor of a Multiemployer Pension Plan.

OMB Control Number: 1545-1890.

Type of Review: Extension without change of a currently approved collection.

Abstract: This revenue procedure describes the process for obtaining an extension of the amortization period for the minimum funding standards set forth in section 412(e) of the Code.

Form: None.

Affected Public: Businesses or other for-profits.

Estimated Total Annual Burden Hours: 2,500.

Title: Form 13560, Health Plan Administrator (HPA) Return of Funds.

OMB Control Number: 1545-1891.

Type of Review: Extension without change of a currently approved collection.

Abstract: Form 13560 is completed by Health Plan Administrators (HPAs) and accompanies a return of funds in order to ensure proper handling. This form serves as supporting documentation for any funds returned by an HPA and clarifies where the payment should be applied and why it is being sent.

Form: 13560.

Affected Public: State, Local, and Tribal Government.

Estimated Total Annual Burden Hours: 50.

Title: Rollover of Gain from Qualified Small Business Stock to Another Qualified Small Business Stock.

OMB Control Number: 1545-1893.

Type of Review: Extension without change of a currently approved collection.

Abstract: These regulations relating to the application of section 1045 of the Internal Revenue Code (Code) to partnerships and their partners and provide rules regarding the deferral of gain on a partnership's sale of qualified small business stock (QSB stock) and a partner's sale of QSB stock distributed by a partnership. These regulations also provide rules for a taxpayer (other than a C corporation) who sells QSB stock and purchases replacement QSB stock through a partnership.

Form: None.

Affected Public: Businesses or other for-profits.

Estimated Total Annual Burden Hours: 1,500.

Title: (TD 9212) Final, Source of Compensation for Labor or Personal Services.

OMB Control Number: 1545-1900.

Type of Review: Extension without change of a currently approved collection.

Abstract: The regulation describes the appropriate bases for determining the source of income from labor or personal services performed partly within and partly without the United States. The information required in Sec. 1.861-4(b)(2)(ii)(D) and (D)(6) will enable an employee to source certain fringe benefits on a geographical basis. The collections of information will allow the IRS to verify these determinations.

Form: None.

Affected Public: Individuals or Households.

Estimated Total Annual Burden Hours: 10,000.

Title: TD 9210—LIFO Recapture Under Section 1363(d).

OMB Control Number: 1545-1906.

Type of Review: Extension without change of a currently approved collection.

Abstract: This collection of information is required to inform the IRS of partnerships electing to increase the basis of inventory to reflect any amount included in a partner's income under section 1363(d). Section 1.1363-2(e)(ii) allows a partnership to elect to adjust the basis of its inventory to take account of LIFO recapture. Section 1.1363-2(e)(3) provides guidance on how to make this election.

Form: None.

Affected Public: Businesses or other for-profits.

Estimated Total Annual Burden Hours: 200.

Title: Form 14134, Application for Certificate of Subordination of Federal Tax Lien.

OMB Control Number: 1545-2174.

Type of Review: Extension without change of a currently approved collection.

Abstract: The collection of information is required by 26 CFR 301.6325-1(b)(5) for consideration of the United States discharging property from the federal tax lien and is required by 26 CFR 301.6325-1(d)(4) for consideration that the United States subordinate its interest in property. These forms will provide guidance to ensure proper documentation is submitted to the Agency.

Form: 14134, 14135.

Affected Public: Businesses or other for-profits, Farms, Not-for-profit institutions.

Estimated Total Annual Burden Hours: 22,665.

Title: Affordable Care Act Notice Relating to Rescissions.

OMB Control Number: 1545-2180.

Type of Review: Revision of a currently approved collection.

Abstract: This document contains interim final regulations implementing the rules for group health plans and health insurance coverage in the group and individual markets under provisions of the Affordable Care Act regarding preexisting condition exclusions, lifetime and annual dollar limits on benefits, rescissions, prohibition on discrimination in favor of highly compensated individuals, and patient protections.

Form: None.

Affected Public: Businesses or other for-profits, Not-for-profit institutions.

Estimated Total Annual Burden Hours: 20.

Title: REG-118315-12 (FINAL), Health Insurance Providers Fee and Form 8963, Report of Health Insurance Provider Information.

OMB Control Number: 1545-2249.

Type of Review: Extension without change of a currently approved collection.

Abstract: The Affordable Care Act imposes an annual fee on health insurance providers that provide health insurance for United States health risks (a covered entity). IRS final regulations, which implements the Affordable Care Act, describe how the IRS will administer the health insurance providers fee. This information collection covered under this request are the recordkeeping requirements prescribed in § 57.2(e)(2) that each member of a controlled group are to maintain records of consent to the controlled group's selection of the designated entity. Reporting requirements under § 57.3 will be reported through Form 8963, “Report of Health Insurance Provider Information”. File Form 8963, Report of Health Insurance Provider Information, to report net premiums written for health insurance of United States health risks. The information reported will be used by the IRS to calculate the annual fee on health insurance providers.

Form: 8963.

Affected Public: Businesses or other for-profits.

Estimated Total Annual Burden Hours: 18,208.

Title: Notice 2017-9—De Minimis Error Safe Harbor to the I.R.C. §§ 6721 and 6722 Penalties.

OMB Control Number: 1545-2270.

Type of Review: Extension without change of a currently approved collection.

Abstract: Under 6722(c)(3)(B) payees may elect that an exception to penalties not apply so that penalties may apply if payors don't provide corrected returns and statements. The collection of information will be this election, a retraction of the election, or specified retention of records of elections or retractions. The collection is necessary for the effective operation of the exception and election framework. Respondents are payees or payors.

Form: None.

Affected Public: Individuals or Households.

Estimated Total Annual Burden Hours: 760,569.

Authority: 44 U.S.C. 3501 et seq.

Dated: June 23, 2017.
Jennifer P. Leonard,
Treasury PRA Clearance Officer.

[FR Doc. 2017-13593 Filed 6-29-17; 8:45 am]

BILLING CODE 4830-01-P